DEPARTMENT OF COMMERCE

Foreign-Trade Zones Board

[Order No. 2127]

Voluntary Relinquishment of the Grant of Authority; Foreign-Trade Zone (FTZ) 263; Auburn, Maine

Pursuant to its authority under the Foreign-Trade Zones Act of June 18, 1934, as amended (19 U.S.C. 81a-81u), the Foreign-Trade Zones Board (the Board) adopts the following Order:

Whereas, on October 1, 2004, the Board issued a grant of authority to the Lewiston-Auburn Economic Growth Council, authorizing the establishment of Foreign-Trade Zone 263 (Board Order 1354);

Whereas, the Lewiston-Auburn Economic Growth Council has made a request (FTZ Docket B-13-2022) to the Board for voluntary relinquishment of the grant of authority for FTZ 263, and;

Whereas, the Board, noting the concurrence of U.S. Customs and Border Protection, adopts the findings of the FTZ staff report and concludes that approval of the request is in the public interest;

Now, therefore, the Foreign-Trade Zones Board terminates the FTZ status of Foreign-Trade Zone No. 263, effective this date.

Dated: August 16, 2022.
Lisa W. Wang,
Assistant Secretary for Enforcement and Compliance, Alternate Chairperson, Foreign-Trade Zones Board.

[FR Doc. 2022-18044 Filed 8-19-22; 8:45 am]

BILLING CODE 3510-DS-P